DEPARTMENT OF JUSTICE

Notice of Lodging of Proposed Consent Decree Under the Clean Air Act

On August 30, 2021, the Department of Justice lodged a Consent Decree with the United States District Court for the District of Arizona in United States v. Gear Box Z, Inc., Civ. No. 3:20-08003-PCT-JJT.

The proposed Consent Decree settles claims brought by the United States for violations of the Clean Air Act arising from Defendant's manufacture, offers for sale, and sale of motor vehicle parts that bypass, defeat, and/or render inoperative the vehicle's installed emission controls, commonly known as “defeat devices.” See 42 U.S.C. 7522(a)(3)(B). The Consent Decree resolves these claims and prohibits Defendant and its two owners (collectively, “the GBZ Parties”) from: (1) Manufacturing, selling, or installing defeat devices; (2) investing in or obtaining revenue from defeat devices, including from other companies or ventures; and (3) providing technical support or honoring warranty claims for defeat device products. In addition, the Consent Decree requires the GBZ Parties destroy any remaining defeat devices in their inventory or possession, surrender all intellectual property associated with defeat devices to EPA, and report periodically on their future involvement in the automotive industry. It also requires the GBZ Parties to pay a civil penalty of $10,000, which was based on their financial situation.

The publication of this notice opens a period for public comment on the proposed Consent Decree. Comments should be addressed to the Assistant Attorney General, Environment and Natural Resources Division and should refer to United States v. Gear Box Z, Inc., D.J. Ref. No. 90-5-2-1-12138. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ-ENRD, P.O. Box 7611, Washington, DC 20044-7611.

Please enclose a check or money order for $11.75 (25 cents per page reproduction cost) payable to the United States Treasury.

Lori Jonas,
Assistant Section Chief, Environmental Enforcement Section, Environment and Natural Resources Division.

[FR Doc. 2021-19020 Filed 9-2-21; 8:45 am]

BILLING CODE 4410-15-P